ENVIRONMENTAL PROTECTION AGENCY

[EPA-HQ-OPP-2017-0654; FRL-9986-50-OEI]

Agency Information Collection Activities; Submitted to OMB for Review and Approval; Comment Request; Certification of Pesticide Applicators (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): “Certification of Pesticide Applicators (Renewal)” and identified by EPA ICR No. 0155.13 and OMB Control No. 2070-0029. This is a request to renew the approval of an existing ICR, which is currently approved through November 30, 2018. EPA did not receive any comments in response to the previously provided public review opportunity issued in the Federal Register on April 27, 2018. With this submission, EPA is providing an additional 30 days for public review and comment.

DATES: Comments must be received on or before December 27, 2018.

ADDRESSES: Submit your comments, identified by docket identification (ID) number EPA-HQ-OPP-2017-0654, to: (1) EPA online using http://www.regulations.gov (our preferred method) or by mail to: EPA Docket Center, Environmental Protection Agency, Mail Code 28221T, 1200 Pennsylvania Ave. NW, Washington, DC 20460 and (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Ryne Yarger, Field and External Affairs Division (7506P), Office of Pesticide Programs, Environmental Protection Agency, 1200 Pennsylvania Ave. NW, Washington, DC 20460-0001; telephone number: (703) 605-1193; email address: yarger.ryne@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on November 30, 2018. EPA announced its intended renewal of this ICR and provided an opportunity for public review and comment in the Federal Register on April 27, 2018 (83 FR 18553). Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: EPA administers certification programs for pesticide applicators under section 11 of the Federal Insecticide, Fungicide, and Rodenticide Act (FIFRA) and EPA regulations in 40 CFR part 171. FIFRA allows EPA to classify a pesticide as “restricted use” if the pesticide meets certain toxicity or risk criteria. This ICR addresses the paperwork activities performed by businesses, individuals and regulators to comply with training and certification requirements associated with applicators of restricted use pesticides (RUPs). Because of the potential of improperly applied RUPs to harm human health or the environment, pesticides under this classification may be purchased and applied only by “certified applicators” or by persons under the direct supervision of certified applicators. This ICR addresses instances in which registrants of certain pesticide products are required to perform specific paperwork activities, such as training and recordkeeping, as a condition of the pesticide registration (e.g., registrants of pesticide products that assert claims to inactivate Bacillus anthracis (anthrax) spores).

To become a certified applicator, a person must meet certain standards of competency through completion of a certification program or test. Authorized agencies administer certified applicator programs within their jurisdictions, but each agency's certification plan must be approved by EPA before it can be implemented. In areas where no authorized agency has jurisdiction, EPA may administer a certification program directly.

This ICR also addresses how registrants of certain pesticide products are expected to perform specific, special paperwork activities, such as training and recordkeeping, in order to comply with the terms and conditions of the pesticide registration (e.g., registrants of anthrax-related pesticide products that assert claims to inactivate Bacillus anthracis spores). Paperwork activities associated with the use of such products are conveyed specifically as a condition of the registration.

Respondents/Affected Entities: Pesticide applicators, administration of certification programs by States/Tribal lead agencies (authorized agencies), individuals or entities engaged in activities related to the registration of a pesticide product, and RUP dealers (only for EPA administered programs).

Form Numbers: EPA Form 8500-17 and EPA Form 8500-17-N.

Respondent's Obligation To Respond: Mandatory (FIFRA sections 3 and 11).

Estimated Total Number of Potential Respondents: 444,639 (total).

Frequency of Response: On occasion.

Estimated Total Burden: 1,379,444 hours (per year). Burden is defined at 5 CFR 1320.3(b).

Estimated Total Costs: $53,046, 591 (per year), includes $0 annualized capital investment or maintenance and operational costs.

Changes in the Estimates: There is an increase of 58,661 hours in the total estimated respondent burden compared with that identified in the ICR currently approved by OMB. This increase reflects an EPA update of the number of respondents and the wage rates, and a change in the number of entities whose certification programs are directly overseen by EPA. The changes are the result of adjustments.

Courtney Kerwin,
Director, Collection Strategies Division.

[FR Doc. 2018-25713 Filed 11-26-18; 8:45 am]

BILLING CODE 6560-50-P